DEPARTMENT OF TRANSPORTATION

Federal Motor Carrier Safety Administration

[Docket No. FMCSA-2024-0021]

Qualification of Drivers; Exemption Applications; Epilepsy and Seizure Disorders; Correction

AGENCY: Federal Motor Carrier Safety Administration (FMCSA), Department of Transportation (DOT).

ACTION: Notice of applications for exemption; correction.

SUMMARY: In a notice of applications for exemption published in the Federal Register on May 13, 2024, FMCSA announced its decision to renew exemptions for 12 individuals from the prohibition in the Federal Motor Carrier Safety Regulations (FMCSRs) against persons with a clinical diagnosis of epilepsy or any other condition that is likely to cause a loss of consciousness or any loss of ability to control a commercial motor vehicle (CMV) to drive in interstate commerce. If granted, the exemptions would enable these individuals who have had one or more seizures and are taking anti-seizure medication to operate CMVs in interstate commerce. The notice inadvertently published an individual's medical diagnosis incorrectly. This notice corrects that error.

DATES: This correction is effective May 13, 2024. Comments on the notice must still be received on or before June 12, 2024.

FOR FURTHER INFORMATION CONTACT: Ms. Christine A. Hydock, Chief, Medical Programs Division, FMCSA, DOT, 1200 New Jersey Avenue SE, Room W64-224, Washington, DC 20590-0001, (202) 366-4001, fmcsamedical@dot.gov. Office hours are from 8:30 a.m. to 5 p.m. ET Monday through Friday, except Federal holidays. If you have questions regarding viewing materials in the docket, contact Dockets Operations, (202) 366-9826.

SUPPLEMENTARY INFORMATION: On May 13, 2024, FMCSA published a notice of applications for exemption (88 FR 41489) with an effective date of May 13, 2024, in which FMCSA announces receipt of applications from 12 individuals for an exemption from the prohibition in the Federal Motor Carrier Safety Regulations (FMCSRs) against persons with a clinical diagnosis of epilepsy or any other condition that is likely to cause a loss of consciousness or any loss of ability to control a commercial motor vehicle (CMV) to drive in interstate commerce. The notice inadvertently published Donald Gloy's medical diagnosis incorrectly. Through this notice, FMCSA corrects the May 13, 2024, applications for exemption by correctly indicating Donald Gloy's medical diagnosis.¹

¹ The published version of the original notice is included in the docket for this correction.

In FR Doc. 2024-10271 appearing on page 41489 in the Federal Register of May 13, 2024, the following correction is made:

1. On page 41490, in the third column, under Donald Gloy's qualifications of applicant's summary, “They have a history of generalized epilepsy and have been seizure free since 2019” is corrected to read “They had a single provoked seizure in November 2018 and have been seizure free since.”

Issued under authority delegated in 49 CFR 1.87.

Larry W. Minor,
Associate Administrator for Policy.

[FR Doc. 2024-12193 Filed 6-3-24; 8:45 am]

BILLING CODE 4910-EX-P